DEPARTMENT OF DEFENSE

Department of the Air Force

Active Duty Service Determinations For Civilian Or Contractual Groups

AGENCY: DoD Civilian/Military Service Review Board, Department of the Air Force.

ACTION: Notice.

SUMMARY: On 21 October 2019, the Secretary of the Air Force, acting as Executive Agent of the Secretary of Defense, determined that the service of the group known as the “NCIS Special Agents Who Were Assigned to the Middle East Field Office in Bahrain in Direct Support of the CTF-151 Counter-Piracy Mission” shall not be considered “active duty” under the provisions of Public Law 95-202 for purposes of all laws administered by the Department of Veterans Affairs (DVA).

FOR FURTHER INFORMATION CONTACT: Colonel Patricia Barr, Secretary of the Air Force Personnel Council (SAFPC), 3351 Celmers Lane, Joint Base Andrews NAF, Washington, MD 20762, 240-612-5371.

Adriane Paris,
Acting Air Force Federal Register Liaison Officer.

[FR Doc. 2020-18357 Filed 8-24-20; 8:45 am]

BILLING CODE 5001-10-P